DEPARTMENT OF ENERGY

Federal Energy Regulatory Commission

[Docket No. RP00-329-006]

Great Lakes Gas Transmission Limited Partnership; Notice of Compliance Filing

February 13, 2004.

Take notice that on February 10, 2004, Great Lakes Gas Transmission Limited Partnership (Great Lakes) tendered for filing as part of its FERC Gas Tariff, Second Revised Volume No. 1, the following tariff sheets, proposed to be effective July 1, 2003:

Third Revised Sheet No. 39B

Eleventh Revised Sheet No. 41

Eighth Revised Sheet No. 42

Great Lakes states that these tariff sheets are being filed to comply with the Commission's February 3, 2004, Letter Order (February 3 Letter Order) accepting Great Lakes' November 24, 2003, Order No. 637 Compliance Filing (Docket No. RP00-329-000, et al.). Great Lakes also states that in the February 3 Letter Order, the Commission noted that certain tariff sheets previously accepted in the Great Lakes Order No. 587-R proceeding (Docket No. RP03-368-000, et al.) require revisions to incorporate approved language from the Order No. 637 proceeding. Great Lakes further states it was directed to file such revised tariff sheets within 15 days of the February 3 Letter Order and the tariff sheets included in this compliance tariff filing reflect those required revisions.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-338 Filed 2-19-04; 8:45 am]

BILLING CODE 6717-01-P